DEPARTMENT OF COMMERCE

National Oceanic and Atmospheric Administration

[I.D. 081800E]

Fishing Capacity Reduction Program Advanced Referenda and Other Requirements

AGENCY: National Oceanic and Atmospheric Administration (NOAA).

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 23, 2000.

ADDRESSES: Direct all written comments to Linda Engelmeier, Departmental Forms Clearance Officer, Department of Commerce, Room 6086, 14th and Constitution Avenue NW, Washington DC 20230 (or via Internet at lengelme@doc.gov).

FOR FURTHER INFORMATION CONTACT: Requests for additional information or copies of the information collection instrument(s) and instructions should be directed to Richard Roberts, OFA1x1, Station 8118, NOAA, 1305 East West Highway, Silver Spring, MD 20910 (301-713-3525, ext. 115).

SUPPLEMENTARY INFORMATION:

I. Abstract

The National Oceanic and Atmospheric Administration (NOAA) conducts a program to reduce excess fishing capacity by paying fishermen to (1) surrender their fishing permits, or (2) to both surrender their permits and either scrap or restrict their vessel titles to prevent fishing. The bulk of the information requirements associated with this program are approved under OMB Control Number 0648-0376. In May of 2000, however, NOAA obtained emergency clearance from OMB to conduct advanced referenda concerning buyback programs. Certain other existing requirements were clarified. NOAA is now requesting OMB for regular Paperwork Reduction Act approval for these requirements.

II. Method of Collection

Hard copies of material will usually be submitted.

III. Data

OMB Number: 0648-0413.

Form Number: None.

Type of Review: Regular submission.

Affected Public: Business and other for-profit organizations, individuals and households.

Estimated Number of Respondents: 800.

Estimated Time Per Response: 4 hours.

Estimated Total Annual Burden Hours: 3,200.

Estimated Total Annual Cost to Public: $0.

IV. Request for Comments

Comments are invited on: (a) Whether the proposed collection of information is necessary for the proper performance of the functions of the agency, including whether the information shall have practical utility; (b) the accuracy of the agency ’sestimate of the burden (including hours and cost) of the proposed collection of information; (c)ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 17, 2000
Madeleine Clayton,
Management Analyst, Office of the Chief Information Officer.

[FR Doc. 00-21680 Filed 8-23-00; 8:45 am]

Billing Code: 3510-22-F